NATIONAL FOUNDATION ON THE ARTS AND THE HUMANITIES

Meetings of Humanities Panel

AGENCY: National Endowment for the Humanities.

ACTION: Notice of meetings.

SUMMARY: The National Endowment for the Humanities will hold fourteen meetings of the Humanities Panel, a federal advisory committee, during October, 2017. The purpose of the meetings is for panel review, discussion, evaluation, and recommendation of applications for financial assistance under the National Foundation on the Arts and Humanities Act of 1965.

DATES: See Supplementary Information section for meeting dates. The meetings will open at 8:30 a.m. and will adjourn by 5:00 p.m. on the dates specified below.

ADDRESSES: The meetings will be held at Constitution Center at 400 7th Street SW., Washington, DC 20506, unless otherwise indicated.

FOR FURTHER INFORMATION CONTACT: Elizabeth Voyatzis, Committee Management Officer, 400 7th Street SW., Room 4060, Washington, DC 20506; (202) 606-8322; evoyatzis@neh.gov.

SUPPLEMENTARY INFORMATION: Pursuant to section 10(a)(2) of the Federal Advisory Committee Act (5 U.S.C. App.), notice is hereby given of the following meetings:

1. Date: October 12, 2017

This meeting will discuss applications on the subjects of U.S. History and Culture for the Humanities Collections and Reference Resources grant program, submitted to the Division of Preservation and Access.

2. Date: October 17, 2017

This meeting will discuss applications on the subjects of U.S. History and Culture for the Humanities Collections and Reference Resources grant program, submitted to the Division of Preservation and Access.

3. Date: October 17, 2017

This meeting will discuss applications on the subject of U.S. History for the Public Humanities Projects—Exhibitions grant program (implementation grants), submitted to the Division of Public Programs.

4. Date: October 18, 2017

This meeting will discuss applications on the subject of Radio for Media Projects: Production Grants, submitted to the Division of Public Programs.

5. Date: October 19, 2017

This meeting will discuss applications on the subject of Art History for the Public Humanities Projects—Exhibitions grant program (implementation grants), submitted to the Division of Public Programs.

6. Date: October 20, 2017

This meeting will discuss applications on the subjects of Music and Performing Arts for the Humanities Collections and Reference Resources grant program, submitted to the Division of Preservation and Access.

7. Date: October 23, 2017

This meeting will discuss applications on the subjects History of Science and Medicine for the Humanities Collections and Reference Resources grant program, submitted to the Division of Preservation and Access.

8. Date: October 23, 2017

This meeting will discuss applications on the subject of American Studies for the Humanities Collections and Reference Resources grant program, submitted to the Division of Preservation and Access.

9. Date: October 24, 2017

This meeting will discuss applications on the subject of Art History for the Public Humanities Projects—Exhibitions grant program (implementation grants), submitted to the Division of Public Programs.

10. Date: October 24, 2017

This meeting will discuss applications on the subject of Cultural History for Media Projects: Production Grants, submitted to the Division of Public Programs.

11. Date: October 26, 2017

This meeting will discuss applications on the subject of the Modern Era for the Humanities Collections and Reference Resources grant program, submitted to the Division of Preservation and Access.

12. Date: October 26, 2017

This meeting will discuss applications on the subject of U.S. History for the Public Humanities Projects—Exhibitions grant program (implementation grants), submitted to the Division of Public Programs.

13. Date: October 30, 2017

This meeting will discuss applications on the subject of Cultural History for Media Projects: Production Grants, submitted to the Division of Public Programs.

14. Date: October 31, 2017

This meeting will discuss applications on the subject of Art History for the Public Humanities Projects—Exhibitions grant program (implementation grants), submitted to the Division of Public Programs.

Because these meetings will include review of personal and/or proprietary financial and commercial information given in confidence to the agency by grant applicants, the meetings will be closed to the public pursuant to sections 552b(c)(4) and 552b(c)(6) of Title 5, U.S.C., as amended. I have made this determination pursuant to the authority granted me by the Chairman's Delegation of Authority to Close Advisory Committee Meetings dated April 15, 2016.

Dated: September 6, 2017.
Elizabeth Voyatzis,
Committee Management Officer.

[FR Doc. 2017-19204 Filed 9-8-17; 8:45 am]

BILLING CODE 7536-01-P